FEDERAL COMMUNICATIONS COMMISSION

47 CFR Part 20

[WT Docket No. 23-388; FCC 24-112; FR ID 257122]

Achieving 100% Wireless Handset Model Hearing Aid Compatibility

Correction

In rule document 2024-25088, appearing on pages 89832 through 89868 in the issue of Wednesday, November 13, 2024, make the following corrections:

§ 20.19 [Corrected]

1. On page 89865, in the first column, in paragraph 20.19(b)(3)(i), on the second line, “December 12, 2028” should read “December 13, 2028”.

2. On the same page, in the same column, in paragraph 20.19(b)(3)(ii), on the first line, “December 12, 2028” should read “December 13, 2028”.

3. On the same page, in the same column, in paragraph 20.19(b)(4), on the third line, “December 12,” should read “December 13,”.

4. On page 89866, in the first column, in paragraph 20.19(c)(5), on the fourth line, “June 12, 2028” should read “June 13, 2028”.

5. On the same page, in the same column, in paragraph 20.19(c)(6), on the fourth line, “June 12, 2028” should read “June 13, 2028”.

6. On the same page, in the second column, in paragraph 20.19(e)(4), on the seventh and eighth lines, “June 12, 2028” should read “June 13, 2028”.

7. On page 89867, in the first column, in paragraph 20.19 (b)(3)(iii)(C), on the first line, “December 12, 2028” should read “December 13, 2028”.

8. On the same page, in the third column, in paragraph 20.19(i)(5), on the sixth line, “June 12, 2028” should read “June 13, 2028”.

[FR Doc. C1-2024-25088 Filed 12-26-24; 8:45 am]

BILLING CODE 6712-01-P